DEPARTMENT OF COMMERCE

National Oceanic and Atmospheric Administration

Agency Information Collection Activities; Submission to the Office of Management and Budget (OMB) for Review and Approval; Comment Request; Processed Products Family of Forms

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 24, 2020.

ADDRESSES: Interested persons are invited to submit written comments to Adrienne Thomas, NOAA PRA Officer, at Adrienne.thomas@noaa.gov. Please reference OMB Control Number 0648-0018 in the subject line of your comments. Do not submit Confidential Business Information or otherwise sensitive or protected information.

FOR FURTHER INFORMATION CONTACT: Requests for additional information or specific questions related to collection activities should be directed to Melissa Yencho, NOAA Fisheries Office of Science and Technology, (301) 427-8193 or melissa.yencho@noaa.gov.

SUPPLEMENTARY INFORMATION:

I. Abstract

This request is for extension of a current information collection.

The National Oceanic and Atmospheric Administration (NOAA) National Marine Fisheries Service annually collects information from seafood and industrial fishing processing plants on the volume and value of their processed fishery products and their monthly employment figures. These data are required by the Secretary of Commerce in carrying out provisions of the Magnuson-Stevens Fishery Conservation and Management Act (16 U.S.C. 1801 et seq. as amended). Each Fishery Management Plan (FMP) established under the Act must determine the estimated capacity by United States (U.S.) seafood processors for the managed fishery. Data from these surveys are used in economic analyses to estimate the capacity and extent to which U.S. fish processors, on an annual basis, will process that portion of the optimum yield harvested by domestic fishing vessels. Employment data are used in socioeconomic analyses for determining potential impacts on processing employment, due in part to management measures.

Federally permitted dealers of Atlantic mackerel, squid, butterfish, Atlantic sea scallop, Northeast multispecies, monkfish, summer flounder, scup, black sea bass, Atlantic bluefish, spiny dogfish, Atlantic herring, Atlantic hagfish, Atlantic deep-sea red crab, tilefish, skate, surf clam or ocean quahog in the National Marine Fisheries Service's (NOAA Fisheries) Northeast Region are required under 50 CFR 648.7 to complete and submit all sections of NOAA Form 88-13.

NOAA Form 88-13c is used to collect monthly production of fish meal and oil. These data are needed by the Department of Commerce to report market and supply conditions and are used by the industry to procure sufficient inputs to produce such products as animal feeds, paint, lubricants, and fertilizers (13 U.S.C. 61 et seq.).

NOAA Fisheries and Regional Council economists use the collected information to estimate processing capacity and to forecast and subsequently measure the economic impact of fishery management regulations on fish and shellfish supplies using the data on volume and value. The employment data are used to analyze the seasonality of a specific fishery. The data are also used for establishing negotiating positions on international trade by determining which seafood industries might be adversely affected by reducing or eliminating established tariffs.

Data from the annual survey are reported in Fisheries of the United States (NOAA Fisheries), Statistical Abstract of the United States (Census Bureau) and Agricultural Statistics (U.S Department of Agriculture (USDA)). As a member of the United Nations Food and Agriculture Organization and the Organization for Economic Cooperation and Development, NOAA Fisheries supplies aggregate data to these organizations.

In addition to the aforementioned publications, the information collected through the 88-13 family of forms supports activities of other federal agencies. NOAA Fisheries supports the International Trade Commission (ITC) with their various trade investigations by supplying aggregate data on specific processed seafood items. The Office of Management and Budget (OMB) annually requests information on the processing of seafood. The U.S. Customs and Border Protection (CBP), Department of Homeland Security (DHS), establishes the annual tariff-rate quota for tuna fish described in item 1604.14.22 of the Harmonized Tariff Schedule of the United States based on the U.S. canned tuna production for the preceding calendar year (19 U.S.C. 3007). Failure to collect these data would prevent the Secretary of Commerce from meeting the statutory obligations under the Act. It would also prevent the CBP from establishing the annual tariff-rate quota on canned tuna.

In the current survey, NOAA Fisheries provides each processor with a pre-printed paper survey form that includes the products produced by that processor in the previous year. The processor only needs to fill in the quantity of product, value of product, monthly employment, and add any new products. New firms to the survey are provided blank forms.

II. Method of Collection

Responses are submitted by mail, via postage-paid envelopes provided by NOAA Fisheries. If preferred by the processor, an electronically fillable pdf can also be provided and transmitted via encrypted messaging.

III. Data

OMB Control Number: 0648-0018.

Form Number(s): NOAA Forms 88-13, 88-13C.

Type of Review: Regular submission (extension of a current information collection).

Affected Public: Business or other for-profit organizations.

Estimated Number of Respondents: 650.

Estimated Time Per Response: 30 minutes.

Estimated Total Annual Burden Hours: 325.

Estimated Total Annual Cost to Public: $0.

Respondent's Obligation: Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13532 Filed 6-23-20; 8:45 am]

BILLING CODE 3510-22-P